DEPARTMENT OF JUSTICE

Antitrust Division

Notice Pursuant to the National Cooperative Research and Production Act of 1993—Joint Task-Force Networked Media

Notice is hereby given that, on July 10, 2013, pursuant to Section 6(a) of the National Cooperative Research and Production Act of 1993, 15 U.S.C. 4301 et seq. (“the Act”), Joint Task-Force Networked Media (“JT-NM”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ABC American Broadcasting Corporation, New York, NY; Advanced Advertising Forum, Watauga, TX; ALC NetworX, Munich, GERMANY; Altera Corp., San Jose, CA; Arista Networks, Santa Clara, CA; AT&T, Dallas, TX; Athlone Institute of Technology, Westmeath, IRELAND; Audinate, Inc., Portland, OR; AVA Networks, Boulder, CO; Avid Technology, Londonderry, NH; Ray Baldock (Individual), Nevada City, CA; David Bancroft (Individual), Reading, UNITED KINGDOM; Barco, Duluth, GA; Bosch Communications, Burnsville, MN; British Broadcast Corporation, London, Surrey, UNITED KINGDOM; BskyB Ltd, Isleworth, UNITED KINGDOM; CBC Radio Canada, Montreal, Quebec, CANADA; CBS, New York, NY; CDG—CineDesignGroup, Rome, ITALY; Ciena, Kanata, Ontario, CANADA; Cinegy, Munich, GERMANY; Cisco, San Jose, CA; Cobalt Digital Inc., Urbana, IL; Coral Sea Studios P/L, Clifton Beach, Queensland, AUSTRALIA; Crystal Solutions, Buford, GA; Peter Dare (Individual), Queensland, AUSTRALIA; CS Meyer, Inc., Grass Valley, CA; Devoncroft Partners, Coronado, CA; Dimension Data, Oberursel, GERMANY; Dimetis GmbH, Dietzenbach, GERMANY; DIRECTV, El Segundo, CA; Discovery Communications, LLC, Oak Hill, VA; Distrito Telefonica, Madrid, SPAIN; Diversified Systems Inc., Kenilworth, NJ; Dolby, Porter Ranch, CA; James Donahue (Individual), Plainville, MA; DVBLink, Inc., Mount Vernon, IA; Bob Edge TV Consulting, Tualatin, OR; Elemental Technologies, Portland, OR; Encompass Digital Media, Los Angeles, CA; Ericsson Television Ltd, Southampton, UNITED KINGDOM; ESPN, Bristol, CT; Evertz, Burlington, Ontario, CANADA; European Broadcasting Union, Le Grand-Saconnex, Geneva, SWITZERLAND; EVS Broadcast Equipment SA, Seraing, BELGIUM; FOX, Los Angeles, CA; Fraunhofer IDMT, Ilmaneu, GERMANY; Fraunhofer FOKUS Research Institute, Berlin, GERMANY; Front Porch Digital, Mt Laurel, NJ; Fujitsu Frontech North America, Toms River, NJ; GIC, Calabasas, CA; GigaContent A/S, Skanderborg, DENMARK; GoPro, San Mateo, CA; Grass Valley, San Francisco, CA; Harmonic Inc., Portland, OR; Harris Broadcast Corporation, Toronto, Quebec, CANADA; HD Consulting, Sewickley, PA; Home Box Office, Norwalk, CT; HRT, Zagreb, CROATIA; IABM, Gloucestershire, UNITED KINGDOM; IneoQuest Technologies, Inc., Mansfield, MA; Internet2, Ann Arbor, MI; intoPIX, Louvain-La-Neuve, BELGIUM; Iowa Public Television, Johnston, IA; IRIB, Tehran, IRAN; IRT GmbH, Munich, GERMANY; ISAN IA, Geneva, SWITZERLAND; Johnson Interactive, Venice, CA; Lawo Group, Dielsdorf, SWITZERLAND; Level 3 Communications, Broomfield, CO; LTN Global Communications, Savage, MD; Peter Lude (Individual), San Francisco, CA; Macnica Americas, San Jose, CA; Media Links, Inc., Bloomfield, CT; Media Systems Consulting, Santa Clara, CA; Mediahub, Dubendorf, SWITZERLAND; MediAnswers, LLC, Mequon, WI; Mellanox Technologies, Sunnyvale, CA; Microsoft Corp., Redmond, WA; Miranda, Grass Valley, CA; Modern VideoFilm, Burbank, CA; Multimedia Networks and Systems, Delft, NETHERLANDS; NBC Universal, New York, NY; Net Element, Inc., Miami, FL; Net Insight, Stockholm, SE., SWEDEN; Nevion, Oxnard, CA; NHK—Japan Broadcasting Corporation, Shibuya, Tokyo, JAPAN; NineTiles Networks, Ltd., Cambridge, UNITED KINGDOM; Norwegian Broadcasting Corp., Oslo, NORWAY; Luis Nunes (Individual), Annecy, FRANCE; Omron Network Products, Pleasanton, CA; Onstream Media, San Francisco, CA; Pakistan Television Corp., Islamabad, PAKISTAN; Panasonic, Osaka, JAPAN; Paramount Pictures, Los Angeles, CA; Phoenix Satellite Television, Tseung Kwan O, Sai Kung, HONG KONG; Quantel, Newbury, Berkshire, UNITED KINGDOM; Quantum Data Incorporated, Elgin, IL; Radio Telefis Eireann, Dublin, IRELAND; Radio TelevisÃ£o de Portugal, Lisbon, PORTUGAL; RAI Radiotelevisione Italiana, Rome, ITALY; Edward Reuss (Individual), Santa Cruz, CA; Rohde & Schwarz, Munich, GERMANY; Sarnoff Corp., Princeton, NJ; SDVI Corporation, Menlo Park, CA; Semtech Corporation, Burlington, Ontario, CANADA; Skotel Corporation, Brossard, Quebec, CANADA; Society of Motion Pictures and Television Engineers, White Plains, NY; Snell Group, Havant, Hampshire, UNITED KINGDOM; Sony Corporation, Atsugi-shi, Kanagawa, JAPAN; SVT-Sveriges Television, Stockholm, SWEDEN; System Resource, Nevada City, CA; TBT, Inc., Del Mar, CA; TeamCast, Saint-Grégoire Cedex, FRANCE; Technical University of Catalonia, Barcelona, SPAIN; TechNova Consulting LLC, Portland, OR; Telecom Product Consulting, Orange, CT; TelefÃ³nica Germany, Munich, GERMANY; Telestream, Inc., El Granada, CA; Televisio de Catalunya, Sant Joan Despi, Barcelona, SPAIN; TELUS Communication Inc., Toronto, Quebec, CANADA; Thomson Video Networks, Cesson-Sévigné, FRANCE; Tokyo Broadcasting System Television, Inc., Tokyo, JAPAN; Turner Broadcast Systems, Atlanta, GA; TV2, Bergen, NORWAY; University of Southern California, Stanford, CA; Univision, New York, NY; Verizon, New York, NY; Video Services Forum, Somerdale, NJ; Vidovation, Irving, CA; Wheatstone Corporation, New Bern, NC; Xilinx, Inc., San Jose, CA; Yleisradio Oy, Helsinki, FINLAND and ZDF, Mainz, GERMANY.

The general area of JT-NM's planned activity is to ensure interoperability in packet-based systems (networking, equipment and software) for professional media. This includes defining specifications for an agile, on-demand, packet-based network infrastructure designed to support a variety of distributed, automated, professional media (file-and stream-based) workflows for local, regional and global production supporting any standards-based format for interoperability that will facilitate new workflows and reduce total cost of ownership and to speed-up content time-to-market.

Patricia A. Brink,
Director of Civil Enforcement, Antitrust Division.

[FR Doc. 2013-19851 Filed 8-14-13; 8:45 am]

BILLING CODE 4410-11-P